U.S. CONSUMER PRODUCT SAFETY COMMISSION

Sunshine Act Meetings

Federal Register Citation of Previous Announcement: Vol. 77, No. 41, Thursday, March 1, 2012, page 12576.

Announced Time and Date of Meeting: Wednesday, March 7, 2012, 10 a.m.-11 a.m. Meeting Canceled.

For a recorded message containing the latest agenda information, call (301) 504-7948.

Contact Person for Additional Information: Todd A. Stevenson, Office of the Secretary, 4330 East West Highway, Bethesda, MD 20814 (301) 504-7923.

Dated: March 7, 2012.
Todd A. Stevenson,
Secretary.

[FR Doc. 2012-5863 Filed 3-7-12; 11:15 am]

BILLING CODE 6355-01-P